DEPARTMENT OF COMMERCE

International Trade Administration

United States Travel and Tourism Advisory Board: Request for Applications for Membership

AGENCY: International Trade Administration, Department of Commerce.

ACTION: Notice of an opportunity to apply for membership on the United States Travel and Tourism Advisory Board.

SUMMARY: The Department of Commerce is currently seeking applications for membership on the United States Travel and Tourism Advisory Board (Board). The purpose of the Board is to advise the Secretary of Commerce on matters relating to the U.S. travel and tourism industry.

DATES: Applications for immediate consideration for membership must be received by the National Travel and Tourism Office by 5:00 p.m. Eastern Daylight Time (EDT) on Friday, November 1, 2024. The International Trade Administration (ITA) will continue to accept applications under this notice for two years from the deadline to fill any vacancies.

ADDRESSES: Please submit application information by email to TTAB@trade.gov.

FOR FURTHER INFORMATION CONTACT: Jennifer Aguinaga, National Travel and Tourism Office, U.S. Department of Commerce; telephone: 202-482-2404; email: TTAB@trade.gov.

SUPPLEMENTARY INFORMATION:

Background: The Board was established pursuant to Section 607 of the Visit America Act, Subtitle A of title VI of division BB of the Consolidated Appropriations Act, 2023, Public Law 117-328, and in accordance with the provisions of the FACA, 5 U.S.C. 1001 et seq. The Board (1) serves as the advisory body to the Secretary of Commerce (Secretary) on matters relating to the travel and tourism industry in the United States; (2) advises the Secretary on government policies and programs that affect the U.S. travel and tourism industry; (3) offers counsel on current and emerging issues; (4) provides a forum for discussing and proposing solutions to problems related to the travel and tourism industry; and (5) provides advice regarding the domestic travel and tourism industry as an economic engine.

Membership: The National Travel and Tourism Office is accepting applications for Board members. Members of the Board will be selected in accordance with applicable Department of Commerce guidelines based on their ability to carry out the objectives of the Board as set forth in the Board's charter and in a manner that ensures that the Board is balanced in terms of geographic diversity, diversity in size of company or organization to be represented, and representation of a broad range of services in the travel and tourism industry. Each member shall serve for two years from the date of the appointment and at the pleasure of the Secretary of Commerce.

Members shall be Chief Executive Officers or senior executives from U.S. companies, U.S. organizations, or U.S. entities in the travel and tourism sectors representing a broad range of products and services, company sizes, and geographic locations.

Members serve in a representative capacity, representing the views and interests of their business sector, and not as Special Government employees. Members will receive no compensation for their participation in Board activities. Members participating in Board meetings and events will be responsible for their travel, living, and other personal expenses. Meetings will be held regularly and, to the extent practical, not less than twice annually, usually in Washington, DC or virtually.

Request for Nominations: All nominations for membership on the Board should provide the following information:

1. Sponsor letter on the company's or organization's letterhead containing the name, title, and relevant contact information (including phone number and email address) of the individual who is applying or being nominated, and containing a brief description of why the nominee should be considered for membership;

2. Short biography of nominee, including credentials;

3. Brief description of the U.S. company or U.S. organization to be represented and its business activities and company size (number of employees and annual sales);

4. An affirmative statement that the nominee meets all Board eligibility requirements for representative members, including that the applicant represents a U.S. company or U.S. organization and that the applicant is not required to register as a foreign agent under the Foreign Agents Registration Act of 1938; and

5. An affirmative statement that the nominee will be able to meet the expected time commitments of the work of the Board, which includes: (1) a commitment to attend quarterly Board meetings (typically, two in-person meetings and two-to-three virtual meetings), (2) undertaking additional work outside of full Board meetings including regular participation in virtual subcommittee meetings, and (3) frequently drafting, preparing, or commenting on proposed recommendations to be evaluated at Board meetings.

For eligibility purposes, a “U.S. company” is a for-profit firm that is incorporated in the United States (or an unincorporated U.S. firm with its principal place of business in the United States) that is controlled by U.S. citizens or by other U.S. companies. A company is not a U.S. company if 50 percent plus one share of its stock (if a corporation, or a similar ownership interest of an unincorporated entity) is known to be controlled, directly or indirectly, by non-U.S. citizens or non-U.S. companies. For eligibility purposes, a “U.S. organization” is an organization, including trade associations and nongovernmental organizations (NGOs), established under the laws of the United States, that is controlled by U.S. citizens, by another U.S. organization (or organizations), or by a U.S. company (or companies), as determined based on its board of directors (or comparable governing body), membership, and funding sources, as applicable. For eligibility purposes, a U.S. entity is a tourism-related entity that can demonstrate U.S. ownership or control, including but not limited to state and local tourism marketing entities, state government tourism offices, state and/or local government-supported tourism marketing entities, and multi-state tourism marketing entities.

Nominations should be emailed to TTAB@trade.gov.

Brian Beall,
Director, National Travel and Tourism Office.

[FR Doc. 2024-21499 Filed 9-19-24; 8:45 am]

BILLING CODE 3510-DR-P